DEPARTMENT OF COMMERCE

National Oceanic and Atmospheric Administration

RIN 0648-XH010

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Ad Hoc Ecosystem Workgroup (EWG) will hold a webinar, which is open to the public.

DATES: The webinar will be held Wednesday, May 22, 2019, from 1:30 p.m. to 4:30 p.m., Pacific Daylight Time.

ADDRESSES: This meeting will be held via webinar. A public listening station is available at the Pacific Council office (address below). To attend the webinar: (1) join the GoToMeeting by visiting this link https://global.gotomeeting.com/join/791200357 (Click “Join a Meeting” in top right corner of page), (2) Enter the Webinar ID: 791-200-357 and (3) enter your name and email address (required). After logging into the webinar, you must use your telephone for the audio portion of the meeting. Dial this TOLL number 1 (872) 240-3311, enter the Attendee phone audio access code 791-200-357, and enter your audio phone pin (shown after joining the webinar). System Requirements: for PC-based attendees: Required: Windows® 10, 8, 7, Vista, or XP; for Mac®-based attendees: Required: Mac OS® X 10.5 or newer; for Mobile attendees: Required: iPhone®, iPad®, Android™ phone or Android tablet (See the https://www.gotomeeting.com/meeting/ipad-iphone-android-apps). You may send an email to Mr. Kris Kleinschmidt or contact him at (503) 820-2280, extension 411 for technical assistance.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of this webinar is for the EWG to discuss revisions to the Fishery Ecosystem Plan goals and objectives as part of the five-year review. In March 2019 the Council directed the EWG to submit, for the September 2019 advanced briefing book, alternative descriptions of the FEP Vision (including purpose, goals, and objectives), taking into account public and advisory body comments.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: April 30, 2019.
Rey Israel Marquez,
Acting Deputy Director, Office of Sustainable Fisheries, National Marine Fisheries Service.

[FR Doc. 2019-09074 Filed 5-2-19; 8:45 am]

BILLING CODE 3510-22-P